DEPARTMENT OF TRANSPORTATION

Office of the Secretary

Notice of Applications for Certificates of Public Convenience and Necessity and Foreign Air Carrier Permits Filed Under Subpart B (Formerly Subpart Q) During the Week Ending January 30, 2010

The following Applications for: Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0023.

Date Filed: January 25, 2010.

Due Date for Answers, Conforming Applications, or Motion to Modify Scope: February 16, 2010.

Description: Application of Wings Airways, Inc. requesting a certificate of public convenience and necessity to transport passenger, property and mail in interstate air transportation.

Docket Number: DOT-OST-2010-0028.

Date Filed: January 29, 2010.

Due Date for Answers, Conforming Applications, or Motion to Modify Scope: February 19, 2010.

Description: Application of Aero Republica S.A. requesting a foreign air carrier permit and corresponding exemption to enable it to engage in daily scheduled nonstop flights between Bogota, Colombia and Miami, Florida.

Renee V. Wright,
Program Manager, Docket Operations, Federal Register Liaison.

[FR Doc. 2010-2903 Filed 2-9-10; 8:45 am]

BILLING CODE 4910-9X-P